DEPARTMENT OF LABOR

Office of Workers' Compensation Programs

Proposed Extension of Information Collection; Attorney Acknowledgement/Instructions Relating to Representative Fee Applications; OMB Control No. 1240-0049

AGENCY: Office of Workers' Compensation Programs, Division of Federal Employees' Compensation, (OWCP/DFEC) Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs, Division of Federal Employees' Compensation, (OWCP/DFEC) is soliciting comments on the information collection for Attorney Acknowledgement/Instructions Relating to Representative Fee Applications, CA-143/CA-155.

DATES: All comments must be received on or before February 18, 2025.

ADDRESSES: You may submit comment as follows. Please note that late, untimely filed comments will not be considered.

Electronic Submissions: Submit electronic comments in the following way:

• Federal eRulemaking Portal: https://www.regulations.gov. Follow the instructions for submitting comments for WCPO-2024-0021-0001. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP/DFEC, Office of Workers' Compensation Programs, Division of Federal Employees' Compensation, U.S. Department of Labor, 200 Constitution Ave. NW, Room S-3323, Washington, DC 20210.

• OWCP/DFEC will post your comment as well as any attachments, except for information submitted and marked as confidential, in the docket at https://www.regulations.gov.

FOR FURTHER INFORMATION CONTACT: Anjanette Suggs, Office of Workers' Compensation Programs, Division of Federal Employees' Longshore, and Harbor Workers' Compensation, OWCP/DFELHWC, at suggs.anjanette@dol.gov (email); (202) 354-9660.

SUPPLEMENTARY INFORMATION:

I. Background

The Division of Federal Employees' Compensation (DFEC) administers the Federal Employees' Compensation Act (FECA). A Federal employee who sustains a work-related injury is entitled to receive compensation under the FECA. Under 5 U.S.C. 8127(a) and in accordance with 20 CFR 10.700 and 702.131, a claimant may authorize an attorney or other individual to represent his or her interests in any proceeding before the Office of Workers' Compensation Programs (OWCP). Under 5 U.S.C. 8127(b) and in accordance with 20 CFR 10.702 and 702.132, fees for representatives' services must first be approved by the Secretary. The representative is entitled to request a fee for services under 20 CFR 10.700-703 (Federal Employees' Compensation Act (FECA)). The fee must be approved by the OWCP before any demand for payment can be made by the representative.

See: https://www.dol.gov/owcp/dfec/regs/statutes/feca.htm.

eCFR: 20 CFR part 10—Claims for Compensation Under the Federal Employees' Compensation Act, as Amended.

II. Desired Focus of Comments

OWCP/DFEC is soliciting comments concerning the proposed information collection related to the Attorney Acknowledgement/Instructions Relating to Representative Fee Applications. OWCP/DFEC is particularly interested in comments that:

• Evaluate whether the collection of information is necessary for the proper performance of the functions of the Agency, including whether the information has practical utility;

• Evaluate the accuracy of OWCP/DFEC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DFEC located at 200 Constitution Ave. NW, Room S-3323, Washington, DC 20210. Questions about the information collection requirements may be directed to the person listed in the FOR FURTHER INFORMATION section of this notice.

III. Current Actions

This information collection request concerns the Attorney Acknowledgement/Instructions Relating to Representative Fee Applications, CA-143/CA-155. OWCP/DFEC has updated the data with respect to the number of respondents, responses, burden hours, and burden costs supporting this information collection request from the previous information collection request.

Type of Review: Extension, with change, of a currently approved collection.

Agency: Office of Workers' Compensation Programs, Division of Federal Employees' Compensation, OWCP/DFEC.

OMB Number: 1240-0049.

Affected Public: Private Sector—Business or other For-profits.

Number of Respondents: 6,328.

Frequency: On occasion.

Number of Responses: 6,328.

Annual Burden Hours: 3,164 hours.

Annual Respondent or Recordkeeper Cost: $1,107,400.00.

OWCP/DFEC 1240-0049: OWCP/DFEC Attorney Acknowledgement/Instructions Relating to Representative Fee Applications.

Comments submitted in response to this notice will be summarized in the request for Office of Management and Budget approval of the proposed information collection request; they will become a matter of public record and will be available at https://www.reginfo.gov.

Anjanette Suggs,
Certifying Officer.

[FR Doc. 2024-29866 Filed 12-17-24; 8:45 am]

BILLING CODE 4510-CH-P